DEPARTMENT OF ENERGY

Nuclear Energy Research Advisory Committee

AGENCY: Department of Energy.

ACTION: Notice of open meeting.

SUMMARY: This notice announces a meeting of the Nuclear Energy Research Advisory Committee. The Federal Advisory Committee Act (Pub. L. 92-463, 86 Stat. 770), requires that public notice of the meetings be announced in the Federal Register.

DATES: Tuesday, May 18, 2004, 9 a.m. to 6 p.m., Wednesday, May 19, 2004, 9 a.m. to 1 p.m.

ADDRESSES: Marriott Georgetown University Conference Center, 3800 Reservoir Road, NW., Washington, DC.

FOR FURTHER INFORMATION CONTACT: Mr. Mark Roth, Designated Federal Officer, Nuclear Energy Research Advisory Committee, U.S. Department of Energy, NE-20, 1000 Independence Avenue, SW., Washington, DC 20585, telephone number (301) 903-5501, e-mail: mark.roth@hq.doe.gov.

SUPPLEMENTARY INFORMATION: Purpose of the Meeting: To provide advice to the Director of the Office of Nuclear Energy, Science and Technology (NE) of the Department of Energy on the many complex planning, scientific and technical issues that arise in the development and implementation of the Nuclear Energy research program.

Tentative Agenda:

Tuesday May 18, 2004:

Welcome Remarks; Status of Nuclear Energy's FY 2004 Budget Request; Subcommittee Reports and Organizational Issues.

Wednesday, May 19, 2004:

Subcommittee Reports and Organization Issues (continued), Open Discussion, Public Comment.

Public Participation: The day and a half meeting is open to the public on a first-come, first-serve basis because of limited seating. Written statements may be filed with the committee before or after the meeting. Members of the public who wish to make oral statements pertaining to agenda items should contact Mark Roth at the address or telephone listed above. Requests to make oral statements must be made and received five days prior to the meeting; reasonable provision will be made to include the statement in the agenda. The Chair of the committee is empowered to conduct the meeting in a fashion that will facilitate the orderly conduct of business.

Minutes: The minutes of this meeting will be available for public review and copying at the Freedom of Information Reading Room, 1E-190, Forrestal Building, 1000 Independence Avenue, SW., Washington, DC, between 9 a.m. and 4 p.m., Monday through Friday, except holidays.

Issued in Washington, DC on April 22, 2004.
Rachel M. Samuel,
Deputy Advisory Committee Management Officer.

[FR Doc. 04-9602 Filed 4-27-04; 8:45 am]

BILLING CODE 6450-01-P